DEPARTMENT OF ENERGY

Federal Energy Regulatory Commission

Combined Notice of Filings #1

Take notice that the Commission received the following electric rate filings:

Docket Numbers: ER20-2878-023.

Applicants: Pacific Gas and Electric Company.

Description: Compliance filing: WDT SA 275: WDT3 CCSF Settlement Compliance Filing to be effective 12/6/2025.

Filed Date: 12/5/25.

Accession Number: 20251205-5169.

Comment Date: 5 p.m. ET 12/26/25.

Docket Numbers: ER26-107-000.

Applicants: Hardin Solar Energy LLC.

Description: Report Filing: Supplemental Filing to Filing of Amended Assignment, Co-Tenancy, and Shared FA to be effective N/A.

Filed Date: 12/5/25.

Accession Number: 20251205-5175.

Comment Date: 5 p.m. ET 12/26/25.

Docket Numbers: ER26-668-000.

Applicants: Midcontinent Independent System Operator, Inc.

Description: 205(d) Rate Filing: 2025-12-05_SA 4125 UE-Kelso 2 Solar 2nd Rev GIA (J1299) to be effective 12/3/2025.

Filed Date: 12/5/25.

Accession Number: 20251205-5095.

Comment Date: 5 p.m. ET 12/26/25.

Docket Numbers: ER26-669-000.

Applicants: Pacific Gas and Electric Company.

Description: 205(d) Rate Filing: TO: Transmission Access Charge Balancing Account Adjustment (TACBAA) 2026 to be effective 3/1/2026.

Filed Date: 12/5/25.

Accession Number: 20251205-5108.

Comment Date: 5 p.m. ET 12/26/25.

Docket Numbers: ER26-670-000.

Applicants: ISO New England Inc., Central Maine Power Company.

Description: 205(d) Rate Filing: ISO New England Inc. submits tariff filing per 35.13(a)(2)(iii: ISO-NE/CMP; First Revised ETUIA-ISONE/CMP-20-01 to be effective 11/10/2025.

Filed Date: 12/5/25.

Accession Number: 20251205-5212.

Comment Date: 5 p.m. ET 12/26/25.

Docket Numbers: ER26-671-000.

Applicants: Aron Energy Prepay 64 LLC.

Description: Initial Rate Filing: Baseline new to be effective 12/6/2025.

Filed Date: 12/5/25.

Accession Number: 20251205-5217.

Comment Date: 5 p.m. ET 12/26/25.

Docket Numbers: ER26-672-000.

Applicants: Aron Energy Prepay 65 LLC.

Description: Initial Rate Filing: Baseline new to be effective 12/6/2025.

Filed Date: 12/5/25.

Accession Number: 20251205-5220.

Comment Date: 5 p.m. ET 12/26/25.

Docket Numbers: ER26-673-000.

Applicants: Aron Energy Prepay 66 LLC.

Description: Initial Rate Filing: Baseline new to be effective 12/6/2025.

Filed Date: 12/5/25.

Accession Number: 20251205-5224.

Comment Date: 5 p.m. ET 12/26/25.

Docket Numbers: ER26-674-000.

Applicants: Aron Energy Prepay 67 LLC.

Description: Initial Rate Filing: Baseline new to be effective 12/6/2025.

Filed Date: 12/5/25.

Accession Number: 20251205-5228.

Comment Date: 5 p.m. ET 12/26/25.

Docket Numbers: ER26-675-000.

Applicants: New England Power Company.

Description: Tariff Amendment: 2025-12-05 Notice of Cancellation of SA TSA-NEP-101 Between NEP and Vitol to be effective 2/4/2026.

Filed Date: 12/5/25.

Accession Number: 20251205-5233.

Comment Date: 5 p.m. ET 12/26/25.

Docket Numbers: ER26-676-000.

Applicants: Aron Energy Prepay 68 LLC.

Description: Initial Rate Filing: Baseline new to be effective 12/6/2025.

Filed Date: 12/5/25.

Accession Number: 20251205-5237.

Comment Date: 5 p.m. ET 12/26/25.

Docket Numbers: ER26-677-000.

Applicants: Midcontinent Independent System Operator, Inc.

Description: 205(d) Rate Filing: 2025-12-05_Att X—Improvements and Clarification filing to be effective 2/4/2026.

Filed Date: 12/5/25.

Accession Number: 20251205-5266.

Comment Date: 5 p.m. ET 12/26/25.

The filings are accessible in the Commission's eLibrary system (http://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

For public inquiries and assistance with making filings such as interventions, comments, or requests for rehearing, contact the Office of Public Participation at (202) 502-6595 or OPP@ferc.gov.

Dated: December 5, 2025
Debbie-Anne A. Reese,
Secretary.

[FR Doc. 2025-22453 Filed 12-9-25; 8:45 am]

BILLING CODE 6717-01-P